DEPARTMENT OF TRANSPORTATION

Coast Guard

[USCG 2000-7541]

Merchant Marine Personnel Advisory Committee; Vacancies

AGENCY: Coast Guard, DOT.

ACTION: Request for applications.

SUMMARY: The Coast Guard is seeking applications for appointment to membership on the Merchant Marine Personnel Advisory Committee (MERPAC). MERPAC provides advice and makes recommendations to the Coast Guard on matters related to the training, qualification, licensing, certification, and fitness of seamen serving in the U.S. merchant marine.

DATES: Applications should reach us on or before August 15, 2000.

ADDRESSES: You may request an application form by writing to Commandant (G-MSO-1), U.S. Coast Guard, 2100 Second Street SW., Washington, DC 20593-0001; by calling 202-267-0229; by e-mailing mgould@comdt.uscg.mil; or by faxing 202-267-4570. Submit application forms to the same address. This notice and the application form are available on the Internet at http://dms.dot.gov.

FOR FURTHER INFORMATION CONTACT: Lieutenant Commander Luke B. Harden, Acting Executive Director of MERPAC, or Mr. Mark C. Gould, Assistant to the Executive Director, telephone 202-267-0229, fax 202-267-4570.

SUPPLEMENTARY INFORMATION: MERPAC is chartered under the Federal Advisory Committee Act, 5 U.S.C. App. 2. It provides advice and makes recommendations to the Assistant Commander for marine Safety and Environmental Protection, on matters for concern to merchant-marine personnel such as implementation of the International Convention on Standards of Training, Certification and Watchkeeping for Seafarers, 1978 (STCW), and activities of regional examination centers.

MERPAC meets at least twice a year, once at Coast Guard Headquarters, Washington, DC, and once elsewhere in the country. Its subcommittees and working groups may also meet to consider specific problems as required.

The Coast Guard will consider applications for six positions that expire or become vacant in January 2001. It needs applicants with one or more of the following backgrounds to fill the positions:

(a) Licensed Deck officer.

(b) Unlicensed member of the Engineering Department.

(c) Two Marine Educators associated with State maritime academies.

(d) Marine Educator associated with a training institution other than a Federal or State maritime academy.

(e) Public (no maritime experience necessary).

Each member serves for a term of 3 years. No member may hold more than two consecutive 3-year terms. MERPAC members serve without compensation from the Federal Government; however, they do receive travel reimbursement and per diem.

In support of the policy of the Department of Transportation on gender and ethnic diversity, the Coast Guard encourages applications from qualified women and members of minority groups.

If you are selected as a member who represents the general public, we will require you to complete a Confidential Financial Disclosure Report (OGE Form 450). Neither the report nor the information it contains may be released to the public, except under an order issued by a Federal court or as otherwise provided under the Privacy Act [5 U.S.C. 552a].

Dated: June 13, 2000.
Peter A. Richardson,
Acting, Director of Standards.

[FR Doc. 00-15943 Filed 6-22-00; 8:45 am]

BILLING CODE 4910-15-M